DEPARTMENT OF HEALTH AND HUMAN SERVICES

National Institutes of Health

Proposed Collection; 60-Day Comment Request; Investigating Factors That Influence Career Choice Among Neuroscience Trainees NINDS

SUMMARY: In compliance with the requirement of section 3506(c)(2)(A) of the Paperwork Reduction Act of 1995, for opportunity for public comment on proposed data collection projects, the National Institute of Neurological Disorders and Stroke (NINDS), the National Institutes of Health (NIH) will publish periodic summaries of proposed projects to be submitted to the Office of Management and Budget (OMB) for review and approval.

Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) The quality, utility, and clarity of the information to be collected; and (4) Minimize the burden of the collection of information on those who are to respond, including the use of appropriate automated, electronic, mechanical, or other technological collection techniques or other forms of information technology.

To Submit Comments and for Further Information: To obtain a copy of the data collection plans and instruments, submit comments in writing, or request more information on the proposed project, contact: Paul A. Scott, Ph.D., Director, Office of Science Policy and Planning, National Institute of Neurological Disorders and Stroke, 31 Center Drive, Room 8A03, Bethesda, MD 20892-2540 or call non-toll-free number (301) 451-7964 or Email your request, including your address to: NINDSWorkforceSurvey@mail.nih.gov. Formal requests for additional plans and instruments must be requested in writing.

Comment Due Date: Comments regarding this information collection are best assured of having their full effect if received within 60 days of the date of this publication.

Proposed Collection: Investigating Factors that Influence Career Choice Among Neuroscience Trainees NINDS, 0925-NEW, National Institute of Neurological Disorders and Stroke (NINDS), National Institutes of Health (NIH).

Need and Use of Information Collection: In order to create and administer effective training programs for a diverse research workforce, NINDS needs information about the factors influencing career choice among different populations, particularly those underrepresented in the neuroscience workforce. Few studies have looked into factors influencing career choice among biomedical science trainees and how those career choices are influenced by social identity (race/ethnicity, gender, disability, disadvantaged background, and their intersection); none, to our knowledge, has reported this data specifically for neuroscientists. In pursuit of the training mission of NINDS, the Office of Training, Career Development, and Workforce Diversity (OTCDWD) administers programs to train the next generation of neuroscientists and to increase diversity of the neuroscience workforce. The information collected from this survey will help give NINDS a clearer picture of the environment and experiences of our trainee and potential trainee community. We are seeking a more accurate understanding of the career choices neuroscience trainees are making, and how well NINDS supports our trainees' needs and facilitates successful career trajectories. The survey will help improve our current programs, develop training opportunities, and provide programmatic support for current and future NINDS trainees.

OMB approval is requested for 18 months. There are no costs to respondents other than their time. The total estimated annualized burden hours are 205.

Estimated Annualized Burden Hours
Type of respondent | Number of respondents | Number of responses per respondent | Average burden per response (in hours) | Total annual burden hour
Predoctoral | 314 | 1 | 20/60 | 105
Postdoctoral | 200 | 1 | 20/60 | 67
Professional | 100 | 1 | 20/60 | 33

Dated: December 23, 2015.
Walter Koroshetz, M.D.,
Director, National Institute of Neurological Disorders and Stroke NINDS, NIH.

[FR Doc. 2016-00410 Filed 1-11-16; 8:45 am]

BILLING CODE 4140-01-P